DEPARTMENT OF COMMERCE

National Oceanic and Atmospheric Administration

RIN 0648-XE376

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council will hold a public meeting of its Summer Flounder, Scup, and Black Sea Bass Advisory Panel (AP) and its Mackerel, Squid, and Butterfish AP.

DATES: The meeting will be held on Wednesday, January 20, 2016, from 1 p.m. to 5 p.m. For agenda details, see SUPPLEMENTARY INFORMATION.

ADDRESSES: The meeting will be held at the Ocean Place Resort, 1 Ocean Boulevard, Long Branch, NJ 07740; telephone: (732) 571-4000.

Council address: Mid-Atlantic Fishery Management Council, 800 N. State Street, Suite 201, Dover, DE 19901; telephone: (302) 674-2331; Web site: www.mafmc.org.

FOR FURTHER INFORMATION CONTACT: Christopher M. Moore, Ph.D., Executive Director, Mid-Atlantic Fishery Management Council, telephone: (302) 526-5255.

SUPPLEMENTARY INFORMATION: The MAFMC's Summer Flounder, Scup, and Black Sea Bass AP and Mackerel, Squid, and Butterfish AP will meet to provide input on a framework to modify the scup Gear Restricted Areas (GRAs). The scup GRAs are seasonally-effective areas where vessels fishing for or possessing black sea bass, longfin squid, or silver hake (also known as whiting) are prohibited from using trawl nets with codend mesh smaller than 5.0-inches in diameter. The Council has developed a range of alternatives for potential modifications to the GRA boundaries. The APs will provide feedback on those alternatives and may propose additional alternatives. More information, including a detailed agenda can be found at: www.mamfc.org.

Special Accommodations

The meeting is physically accessible to people with disabilities. Requests for sign language interpretation or other auxiliary aid should be directed to M. Jan Saunders, (302) 526-5251, at least 5 days prior to the meeting date.

Dated: December 24, 2015.
Tracey L. Thompson,
Acting Deputy Director, Office of Sustainable Fisheries, National Marine Fisheries Service.

[FR Doc. 2015-32866 Filed 12-29-15; 8:45 am]

BILLING CODE 3510-22-P